DEPARTMENT OF DEFENSE

Office of the Secretary

National Commission on the Future of the Army; Notice of Federal Advisory Committee Meeting

AGENCY: Deputy Chief Management Officer, Department of Defense (DoD).

ACTION: Notice of Federal Advisory Committee meeting.

SUMMARY: The DoD is publishing this notice to announce two days of meetings of the National Commission on the Future of the Army (“the Commission”). The meetings will be partially closed to the public.

DATES: Date of the Closed Meetings: Wednesday, December 16, 2015, from 1:00 p.m. to 5:00 p.m. and Thursday, December 17, 2015, from 8:00 a.m. to 12:00 p.m.

Date of the Open Meeting: Thursday, December 17, 2015, from 3:00 p.m. to 5:00 p.m.

ADDRESSES: Address of Closed Meetings, December 16 and 17, 2015: Rm. 12110, 5th Floor, Zachary Taylor Building, 2530 Crystal Dr., Arlington, VA 22202.

Address of Open Meeting, December 17, 2015: Polk Conference Room, Room 12158, James Polk Building, 2521 S. Clark St., Arlington, VA 22202.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meetings:

During the closed meeting on Wednesday, December 16, 2015, the Commission will review the rationale for potential recommendations sourced by classified data.

During the closed meeting on Thursday, December 17, 2015, the Commission will continue the review of the rationale for potential recommendations sourced by classified data.

During the open meeting on Thursday, December 17, 2015, the Commission will hear subcommittee interim reports and the public will have an opportunity to provide remarks.

Agendas:

December 16, 2015—Closed Meeting: The Commission will hold a closed meeting to discuss the rationale for proposals which the cited information will exceed report classification. All presentations and resulting discussion are classified.

December 17, 2015—Closed Meeting: The Commission will continue the discussion on the rationale for proposals which the cited information will exceed report classification. All presentations and resulting discussion are classified.

December 17, 2015—Open Meeting: The Commission will receive interim reports from representatives from the various subcommittees and time will be allotted for public comments.

Meeting Accessibility:

In accordance with applicable law, 5 U.S.C. 552b(c) and 41 CFR 102-3.155, the DoD has determined that portion of the meetings scheduled for December 16, 2015, and the morning of December 17, 2015, will be closed to the public. Specifically, the Assistant Deputy Chief Management Officer, with the coordination of the DoD FACA Attorney, has determined in writing that these portions of the meetings will be closed to the public because it will discuss matters covered by 5 U.S.C. 552b(c)(1).

Pursuant to 41 CFR 102-3.140 through 102-3.165 and the availability of space, the meeting scheduled for December 17, 2015 from 3:00 p.m. to 5:00 p.m. at the James Polk Building is open to the public. Seating is limited and pre-registration is strongly encouraged. Media representatives are also encouraged to register. Members of the media must comply with the rules of photography and video filming in the James Polk Building. The closest public parking facility is located in the basement and along the streets. Visitors will be required to present one form of photograph identification. Visitors to the James Polk Office Building will be screened by a magnetometer, and all items that are permitted inside the building will be screened by an x-ray device. Visitors should keep their belongings with them at all times. The following items are strictly prohibited in the James Polk Office Building: Any pointed object, e.g., knitting needles and letter openers (pens and pencils are permitted.); any bag larger than 18″ wide × 14″ high × 8.5″ deep; electric stun guns, martial arts weapons or devices; guns, replica guns, ammunition and fireworks; knives of any size; mace and pepper spray; razors and box cutters.

Written Comments:

Pursuant to section 10(a)(3) of the FACA and 41 CFR 102-3.105(j) and 102-3.140, the public or interested organizations may submit written comments to the Commission in response to the stated agenda of the open and/or closed meeting or the Commission's mission. The Designated Federal Officer (DFO) will review all submitted written statements. Written comments should be submitted to Mr. Donald Tison, DFO, via facsimile or electronic mail, the preferred modes of submission. Each page of the comment must include the author's name, title or affiliation, address, and daytime phone number. All comments received before Wednesday, December 16, 2015, will be provided to the Commission before the December 17, 2015, meeting. Comments received after Wednesday, December 16, 2015, will be provided to the Commission before its next meeting. All contact information may be found in the FOR FURTHER INFORMATION CONTACT section.

Registration:

Individuals and entities who wish to attend the public meeting on Thursday, December 17, 2015 are encouraged to register for the event with the DFO using the electronic mail and facsimile contact information found in the FOR FURTHER INFORMATION CONTACT section. The communication should include the registrant's full name, title, affiliation or employer, email address, day time phone number. This information will assist the Commission in contacting individuals should it decide to do so at a later date. If applicable, include written comments and a request to speak during the oral comment session. (Oral comment requests must be accompanied by a summary of your presentation.) Registrations and written comments should be typed.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: November 23, 2015.
Aaron Siegel,
Alternate OSD Federal Register Liaison Officer, Department of Defense.

[FR Doc. 2015-30165 Filed 11-25-15; 8:45 am]

BILLING CODE 5001-06-P